DEPARTMENT OF LABOR

Employment and Training Administration

[TA-W-65,429]

Cenveo Cadmus Communications, Ephrata, PA; Notice of Termination of Investigation

Pursuant to Section 221 of the Trade Act of 1974, as amended, an investigation was initiated on February 27, 2009 in response to a petition filed on behalf of workers of Cenveo Cadmus Communications, Ephrata, Pennsylvania.

The petitioners have requested that the petition be withdrawn. Consequently, the investigation has been terminated.

Signed at Washington, DC, this 13th day of March 2009.
Linda G. Poole,
Certifying Officer, Division of Trade Adjustment Assistance.

[FR Doc. E9-6310 Filed 3-23-09; 8:45 am]

BILLING CODE 4510-FN-P